COMMISSION ON CIVIL RIGHTS

Agenda and Notice of Public Meeting of the Virginia Advisory Committee

Notice is hereby given, pursuant to the provisions of the rules and regulations of the U.S. Commission on Civil Rights, that a meeting with briefing of the Virginia Advisory Committee to the Commission will convene at 9:30 a.m. and adjourn at 3 p.m. on October 31, 2002, at the Washington Suites Hotel, Board Room, 100 South Reynolds Street, Alexandria, Virginia 22304. The Committee will hold a planning session beginning at 9:30 a.m. to review its draft report entitled “Civil Rights Concern in the Metropolitan Washington Area in the Aftermath of the September 9/11 Tragedies: Muslims, Sikhs, Arab Americans, South Asian Americans, and Muslim Women,” and decide on new projects. The Committee will hold a briefing from 1:45 p.m. to 3 p.m. on current civil rights developments in the state from knowledgeable community representatives.

Persons desiring additional information, or planning a presentation to the Committee, should contact Chairperson Richard E. Patrick, 703-719-6499, or Edward Darden of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated in Washington, DC, October 9, 2002.
Les Jin,
Staff Director, Office of the Staff Director.

[FR Doc. 02-26264 Filed 10-15-02; 8:45 am]

BILLING CODE 6335-01-P